DEPARTMENT OF ENERGY

Federal Energy Regulatory Commission

Combined Notice of Filings # 1

November 1, 2006.

Take notice that the Commission received the following electric corporate filings:

Docket Number: EC07-7-000.

Applicants: TPG Generations Holdings, LLC; High Desert Power Project; Holland Energy, LLC; Wolf Hills Energy, LLC; University Park Energy, LLC; Big Sandy Peaker Plant, LLC.

Description: TPF Generation Holdings, LLC, High Desert Power Project, LLC et al. submit a section 203 application for indirect transfer of various public utility owners of existing generation facilities.

Filed Date: 10/23/2006.

Accession Number: 20061030-0196.

Comment Date: 5 p.m. Eastern Time on Monday, November 13, 2006.

Docket Number: EC07-8-000.

Applicant: KGen Marshall LLC.

Description: KGen Marshall LLC submits an Application requesting approval of an expedited sale of jurisdictional assets, et al. to Tennessee Valley Authority.

Filed Date: 10/25/2006.

Accession Number: 20061031-0067.

Comment Date: 5 p.m. Eastern Time on Wednesday, November 15, 2006.

Docket Number: EC07-9-000.

Applicant: Dynegy Inc.

Description: Dynegy, Inc et al. submits their application requesting authorization to consummate a transaction by which the interest in specific jurisdictional facilities.

Filed Date: 10/26/2006.

Accession Number: 20061101-0176.

Comment Date: 5 p.m. Eastern Time on Monday, November 27, 2006.

Docket Number: EC07-10-000.

Applicants: Central Illinois Light Company; AmerenEnergy Resources Generating Company.

Description: Central Illinois Light Company and AmerenEnergy Resources Gen Co. submits a joint Application for approval of the Disposition of Jurisdictional Facilities under Section 203 of the FPA.

Filed Date: 10/27/2006.

Accession Number: 20061031-0156.

Comment Date: 5 p.m. Eastern Time on Friday, November 17, 2006.

Take notice that the Commission received the following electric rate filings:

Docket Number: ER00-3562-004.

Applicant: Calpine Energy Services LP.

Description: Calpine Energy Services, LP submits its updated triennial market power analysis pursuant to FERC's 10/30/03 Order.

Filed Date: 10/30/2006.

Accession Number: 20061101-0168.

Comment Date: 5 p.m. Eastern Time on Monday, November 20, 2006.

Docket Numbers: ER02-999-004; ER05-320-002; ER97-2460-007; ER97-2463-004.

Applicants: Unitil Energy Systems, Inc.; Unitil Power Corporation; Fitchburg Gas Company.

Description: Unitil Energy Systems, Inc et al. submits their updated market power analysis with respect to each company's authority to make sales at market-based rate etc. pursuant to FERC's 2/2/05 Order.

Filed Date: 10/30/2006.

Accession Number: 20061101-0161.

Comment Date: 5 p.m. Eastern Time on Monday, November 20, 2006.

Docket Number: ER03-765-002.

Applicant: Calpine Oneta Power, LP.

Description: Calpine Oneta Power, LP submits its Amended Compliance filing for Rate Schedule FERC 2.

Filed Date: 10/27/2006.

Accession Number: 20061030-0240.

Comment Date: 5 p.m. Eastern Time on Friday, November 17, 2006.

Docket Number: ER05-1179-006.

Applicant: Berkshire Power Company, LLC.

Description: Berkshire Power Company, LLC submits a Compliance Electric Refund Report.

Filed Date: 10/30/2006.

Accession Number: 20061030-5101.

Comment Date: 5 p.m. Eastern Time on Monday, November 20, 2006.

Docket Number: ER06-192-001.

Applicant: Midwest Independent Transmission System Operator, Inc.

Description: Midwest Independent Transmission System Operator, Inc. submits its 2006 Amended Compliance Filing and initial Compliance Filing with regard to the requirements of Order 2006-A and 2006-B.

Filed Date: 10/25/2006.

Accession Number: 20061030-0185.

Comment Date: 5 p.m. Eastern Time on Wednesday, November 15, 2006.

Docket Number: ER06-1437-001.

Applicants: Kentucky Utilities Company; Louisville Gas and Electric Company.

Description: E.ON US, LLC on behalf of Louisville Gas and Electric Co. et al. submits an executed Firm Point-to-Point transmission service agreement with Indiana Municipal Power Agency.

Filed Date: 10/30/2006.

Accession Number: 20061101-0145.

Comment Date: 5 p.m. Eastern Time on Monday, November 20, 2006.

Docket Number: ER07-45-001.

Applicant: Horizon Power and Light LLC.

Description: Horizon Power and Light LLC submits an amendment to the petition for acceptance of initial rate schedule, waivers and blanket authority.

Filed Date: 10/27/2006.

Accession Number: 20061101-0146.

Comment Date: 5 p.m. Eastern Time on Friday, November 17, 2006.

Docket Number: ER07-75-000.

Applicant: Southern California Edison Company.

Description: Southern California Edison Company submits revisions to its Transmission Owner Tariff, FERC Electric Tariff, Second Revised Volume 6 and to certain existing transmission contracts to reflect change in Reliability Service Rates.

Filed Date: 10/26/2006.

Accession Number: 20061031-0006.

Comment Date: 5 p.m. Eastern Time on Thursday, November 16, 2006.

Docket Number: ER07-86-000.

Applicant: Entergy Services Inc.

Description: Entergy Services, Inc submits Revisions to its Open Access Transmission Tariff, to its FERC Electric Tariff, Second Revised Volume 3.

Filed Date: 10/30/2006.

Accession Number: 20061101-0153.

Comment Date: 5 p.m. Eastern Time on Monday, November 20, 2006.

Docket Number: ER07-87-000.

Applicants: ISO New England Inc.; New England Participating Transmission Owners, Maine Electric Power Company, and New England Power Pool.

Description: ISO New England, Inc et al. submits proposed amendments on the standardization of small generator interconnection agreements and procedures pursuant to FERC's Order 2006-B.

Filed Date: 10/29/2006.

Accession Number: 20061101-0154.

Comment Date: 5 p.m. Eastern Time on Monday, November 20, 2006.

Docket Numbers: ER07-92-000.

Applicants: ISO New England Inc.; New England Power Pool Participants Committee.

Description: ISO New England Inc et al. submits its Price Finality Market Package revisions.

Filed Date: 10/30/2006.

Accession Number: 20061101-0157.

Comment Date: 5 p.m. Eastern Time on Monday, November 20, 2006.

Docket Number: ER07-93-000.

Applicant: Entergy Services Inc.

Description: Entergy Operating Companies submits a new Schedule 9 and 10 to its Open Access Transmission Tariff and related amendments to the transmission rate formulas for pt-to-pt, et al.

Filed Date: 10/30/2006.

Accession Number: 20061101-0160.

Comment Date: 5 p.m. Eastern Time on Monday, November 20, 2006.

Docket Number: ER07-94-000.

Applicant: California Power Exchange Corporation.

Description: California Power Exchange Corporation submits proposed amendments to its Rate Schedule 1 in order to recover projected expenses for the period of 1/1/07-6/30/07.

Filed Date: 10/30/2006.

Accession Number: 20061101-0159.

Comment Date: 5 p.m. Eastern Time on Monday, November 20, 2006.

Docket Number: ER07-95-000.

Applicants: Michigan Electric Transmission Company, LLC; Midwest Independent Transmission System Operator, Inc.

Description: Midwest Independent Transmission System Operator, Inc et al. submit proposed revisions to the Midwest ISO's OAT&EM Tariff, Third Revised Volume 1.

Filed Date: 10/30/2006.

Accession Number: 20061101-0155.

Comment Date: 5 p.m. Eastern Time on Monday, November 20, 2006.

Docket Numbers: ER98-1734-012; ER07-98-000.

Applicant: Commonwealth Edison Company.

Description: Commonwealth Edison Co modifies its market based tariff to remove the market behavior rules, delete the Code of Conduct re Public Service Enterprise Group Inc and update identifying information etc.

Filed Date: 10/25/2006.

Accession Number: 20061027-0003.

Comment Date: 5 p.m. Eastern Time on Wednesday, November 15, 2006.

Take notice that the Commission received the following public utility holding company filings:

Docket Number: PH07-3-000.

Applicant: Enbridge Inc.

Description: Enbridge Inc. submits an Exemption Notification pursuant to 18 CFR sections 366.2, et al.

Filed Date: 10/30/2006.

Accession Number: 20061027-5093.

Comment Date: 5 p.m. Eastern Time on Monday, November 20, 2006.

Docket Number: PH07-4-000.

Applicant: Sun Capital Partners III, LLC.

Description: SUN CAPITAL PARTNERS III, LLC submits a petition for waiver of the Commission's Regulations and PUHCA 2005.

Filed Date: 10/31/2006.

Accession Number: 20061031-5019.

Comment Date: 5 p.m. Eastern Time on Tuesday, November 21, 2006.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18805 Filed 11-7-06; 8:45 am]

BILLING CODE 6717-01-P